OFFICE OF THE UNITED STATES TRADE REPRESENTATIVE

Agreement on Government Procurement: Effective Date of Amendments

AGENCY: Office of the United States Trade Representative.

ACTION: Notice.

SUMMARY: For the purpose of U.S. Government procurement that is covered by Title III of the Trade Agreements Act of 1979, the effective date of the Protocol Amending the Agreement on Government Procurement, done at Geneva on 30 March 2012, World Trade Organization (WTO), is April 6, 2014, for the following Parties to the 1994 WTO Agreement on Government Procurement: Canada, Chinese Taipei, Hong Kong, Israel, Lichtenstein, Norway, European Union, Iceland, and Singapore.

DATES: Effective Date: April 6, 2014.

ADDRESSES: Office of the United States Trade Representative, 600 17th Street NW., Washington, DC 20508.

FOR FURTHER INFORMATION CONTACT: Scott Pietan ((202) 395-9646), Director of International Procurement Policy, Office of the United States Trade Representative, 600 17th Street NW., Washington, DC 20508.

SUPPLEMENTARY INFORMATION: Executive Order 12260 (December 31, 1980) implements the 1979 and 1994 Agreement on Government Procurement, pursuant to Title III of the Trade Agreements Act of 1979 as amended (19 U.S.C. 2511-2518). In section 1-201 of Executive Order 12260, the President delegated to the United States Trade Representative the functions vested in the President by sections 301, 302, 304, 305(c) and 306 of the Trade Agreements Act of 1979 (19 U.S.C. 2511, 2512, 2514, 2515(c) and 2516).

The Protocol Amending the Agreement on Government Procurement, done at Geneva on 30 March 2012 (“Protocol”), will enter into force for those Parties to the WTO Agreement on Government Procurement (“Parties”), done at Marrakesh on 15 April 1994 (“1994 Agreement”), that have deposited their respective instruments of acceptance of the Protocol on the 30th day following the deposit by two-thirds (ten) of the Parties to the 1994 Agreement. Thereafter, the Protocol will enter into force for each Party to the 1994 Agreement which has deposited its instrument of acceptance, on the 30th day following the date of such deposit. The United States deposited its instrument of acceptance of the Protocol on December 2, 2013. On March 7, 2014, the tenth Party, Israel, deposited its instrument of acceptance to the Protocol. Therefore, the Protocol shall enter into force on April 6, 2014 for the United States and the following Parties: Canada, Chinese Taipei, Hong Kong, Israel, Lichtenstein, Norway, European Union, Iceland, and Singapore.

Pursuant to the Decision of the Committee on Government Procurement on Adoption of the Text of “The Protocol Amending the Agreement on Government Procurement”, the 1994 Agreement shall continue to apply as between a Party to the 1994 Agreement which is also a Party to the Protocol and a Party only to the 1994 Agreement. Therefore, effective April 6, 2014 and with respect to those Parties for which the Protocol has entered into force, all references in Title III of the Trade Agreement Act of 1979 and in Executive Order 12260 to the Agreement on Government Procurement shall refer to the 1994 Agreement as amended by the Protocol.

With respect to those Parties which have not deposited their instruments of acceptance, all references in Title III of the Trade Agreement Act of 1979 and in Executive Order 12260 to the Agreement on Government Procurement shall continue to refer to the 1994 Agreement until 30 days following the deposit by such Party of its instrument of acceptance of the Protocol.

For the full text of the Government Procurement Agreement as amended by the Protocol and the new annexes that set out the procurement covered by all of the Government Procurement Agreement Parties, see GPA-113: http://www.ustr.gov/sites/default/files/GPA%20113%20Decision%20on%20the%20outcomes%20of%20the%20negotiations%20under%20Article%20XXIV%207.pdf.

Michael B.G. Froman,
United States Trade Representative.

[FR Doc. 2014-05719 Filed 3-14-14; 8:45 am]

BILLING CODE 3290-F4-P